FEDERAL RESERVE SYSTEM

Agency Information Collection Activities: Proposed Collection; Comment Request

AGENCY: Board of Governors of the Federal Reserve System.

Background

On June 15, 1984, the Office of Management and Budget (OMB) delegated to the Board of Governors of the Federal Reserve System (Board) its approval authority under the Paperwork Reduction Act, as per 5 CFR 1320.16, to approve of and assign OMB control numbers to collection of information requests and requirements conducted or sponsored by the Board under conditions set forth in 5 CFR 1320 Appendix A.1. Board-approved collections of information are incorporated into the official OMB inventory of currently approved collections of information. Copies of the OMB 83—Is and supporting statements and approved collection of information instruments are placed into OMB's public docket files. The Federal Reserve may not conduct or sponsor, and the respondent is not required to respond to, an information collection that has been extended, revised, or implemented on or after October 1, 1995, unless it displays a currently valid OMB control number.

Request for Comment on Information Collection Proposals

The following information collections, which are being handled under this delegated authority, have received initial Board approval and are hereby published for comment. At the end of the comment period, the proposed information collections, along with an analysis of comments and recommendations received, will be submitted to the Board for final approval under OMB delegated authority. Comments are invited on the following:

a. Whether the proposed collection of information is necessary for the proper performance of the Federal Reserve's functions; including whether the information has practical utility;

b. The accuracy of the Federal Reserve's estimate of the burden of the proposed information collection, including the validity of the methodology and assumptions used;

c. Ways to enhance the quality, utility, and clarity of the information to be collected; and

d. Ways to minimize the burden of information collection on respondents, including through the use of automated collection techniques or other forms of information technology.

DATES: Comments must be submitted on or before July 18, 2000.

ADDRESSES: Comments, which should refer to the OMB control number or agency form number, should be addressed to Jennifer J. Johnson, Secretary, Board of Governors of the Federal Reserve System, 20th and C Streets, NW, Washington, DC 20551, or mailed electronically to regs.comments@federalreserve.gov. Comments addressed to Ms. Johnson also may be delivered to the Board's mail room between 8:45 a.m. and 5:15 p.m., and to the security control room outside of those hours. Both the mail room and the security control room are accessible from the courtyard entrance on 20th Street between Constitution Avenue and C Street, NW. Comments received may be inspected in room M-P-500 between 9:00 a.m. and 5:00 p.m., except as provided in section 261.14 of the Board's Rules Regarding Availability of Information, 12 CFR 261.14(a).

A copy of the comments may also be submitted to the OMB desk officer for the Board: Alexander T. Hunt, Office of Information and Regulatory Affairs, Office of Management and Budget, New Executive Office Building, Room 3208, Washington, DC 20503.

FOR FURTHER INFORMATION CONTACT: A copy of the proposed form and instructions, the Paperwork Reduction Act Submission (OMB 83-I), supporting statement, and other documents that will be placed into OMB's public docket files once approved may be requested from the agency clearance officer, whose name appears below. Mary M. West, Chief, Financial Reports Section (202-452-3829), Division of Research and Statistics, Board of Governors of the Federal Reserve System, Washington, DC 20551. Telecommunications Device for the Deaf (TDD) users may contact Diane Jenkins, (202-452-3544), Board of Governors of the Federal Reserve System, Washington, DC 20551.

Proposal To Approve Under OMB Delegated Authority the Extension for Three Years, With Revision, of the Following Reports

1. Report title: Monthly Survey of Industrial Electricity Use.

Agency form number: FR 2009.

OMB control number: 7100-0057.

Frequency: Monthly.

Reporters: FR 2009a/c: Electric utility companies; FR 2009b: Cogenerators.

Annual reporting hours: FR 2009a/c: 2,196 hours; FR 2009c: 1,188 hours.

Estimated average hours per response: FR 2009a/c: 1 hour; FR 2009b: 30 minutes.

Number of respondents: FR 2009a/c: 183; FR 2009b: 198. Small businesses are affected.

General description of report: This information collection is voluntary (12 U.S.C. 225a, 263, 353 et seq., and 461) and individual respondent data are given confidential treatment (5 U.S.C. 552(b)(4)).

Abstract: The survey collects information on the volume of electric power delivered during the month to classes of industrial customers. Currently, there are two versions of the survey: the FR 2009a, collects information from electric utilities, the FR 2009b collects information from manufacturing and mining facilities that generate electric power for their own use.

Current Actions: During the next two years the industrial output index will be revised to reflect the new North American Industry Classification System (NAICS). The published series will be categorized under the NAICS codes instead of the current Standard Industrial Classification (SIC) codes. To facilitate this transition process, the Federal Reserve will ask utilities to reclassify their customers using the new codes. The FR 2009c has been created in the NAICS format for use by respondents that have made the transition from SIC to NAICS codes. The FR 2009a would be completed by only the respondents that choose to report SIC codes. This approach would not impose any added burden on the respondents. The Federal Reserve also proposes to eliminate the FR 2009a after the two-year transition period.

2. Report title: The Bank Holding Company Report of Insured Depository Institutions' Section 23A Transactions with Affiliates.

Agency form number: FR Y-8.

OMB control number: 7100-0126.

Frequency: Quarterly.

Reporters: Bank holding companies, financial holding companies.

Annual reporting hours: 169,027 hours.

Estimated average hours per response: 7.2 hours.

Number of respondents: 5,869.

Small businesses are not affected.

General description of report: This information collection is authorized by section 5(c) of the Bank Holding Company Act (12 U.S.C. 1844(c)) and section 225.5(b) of Regulation Y (12 CFR 225.5(b)) and is given confidential treatment pursuant to the Freedom of Information Act (5 U.S.C. 552(b)(4) and (8)).

Abstract: The FR Y-8 collects information on the movement of funds between a domestic bank holding company and its subsidiaries in order to identify broad categories of intercompany transactions and balances that may affect the financial condition of the subsidiary bank. The report also collects information on income recognized by subsidiary banks from other bank holding company members as well as information on credit extended by subsidiary banks to other bank holding company members. Domestic top-tier bank holding companies with assets of $300 million or more are required to file the FR Y-8 on a semiannual basis (June and December). Also, interim reporting is currently required within ten calendar days of certain large asset transfers. The Federal Reserve proposes to delete the current information on the FR Y-8 and collect fourteen items of information on Section 23A covered transactions.

Current actions: On September 21, 1999, a Federal Register notice (64 FR 51121) was issued for public comment to completely revise the FR Y-8 to enhance the Federal Reserve's ability to monitor bank exposures to affiliates and to ensure compliance with section 23A of the Federal Reserve Act. Specifically, the initial proposal would have required bank holding companies to report quarterly, for each of their subsidiary banks, four items of information on covered transactions under section 23A. Domestic financial top-tier bank holding companies would be required to provide information on an individual-bank-basis for each of their insured depository institutions. The interim report would be eliminated. After this proposal was issued, the enactment of the Gramm-Leach-Bliley Act (GLBA) of 1999 increased the importance of section 23A of the Federal Reserve Act and revised the requirements of section 23A. These changes required revisions to the initial proposal.

The GLBA expands the coverage of section 23A to include a new entity, the financial subsidiary, as an affiliate of the insured depository institution. In addition, GLBA applied additional section 23A limits to certain transactions between insured depository institutions, their affiliates, and their financial subsidiaries that engage in the new banking powers. The revised FR Y-8 report will retain the four items initially proposed. However, the Federal Reserve also proposes to collect additional items that would be completed only by bank holding companies that have insured depository institutions that own financial subsidiaries. These additional items are necessary to adequately assess the different section 23A limits that apply to institutions with and without financial subsidiaries.

Based on the revisions to section 23A, the Federal Reserve proposes that all bank holding companies, including financial holding companies, report for their insured depository institutions the following four items, which were part of the original proposal: For all covered transactions subject to section 23A's collateral requirements, holding companies would report for each of their insured depository institutions (a) the outstanding amount of such transactions as of the report date and (b) the maximum amount of such transactions during the calendar quarter ending with the report date. For covered transactions not subject to the collateral requirements, holding companies would likewise report for each of their insured depository institutions (a) the outstanding amount of such transactions as of the report date and (b) the maximum amount of such transactions during the calendar quarter ending with the report date. All transactions between insured depository institutions and financial subsidiaries would be excluded from these four items.

In addition, holding companies engaged in new powers through financial subsidiaries would report ten additional items on covered transactions between the insured depository institution and financial subsidiaries and between the affiliates of the insured depository institution and the financial subsidiaries. For all covered transactions subject to section 23A's collateral requirements between the insured depository institution and financial subsidiaries, holding companies would report for each of their insured depository institutions (a) the outstanding amount of such transactions as of the report date and (b) the maximum amount of such transactions during the calendar quarter ending with the report date. For all covered transactions not subject to section 23A's collateral requirements between the insured depository institution and financial subsidiaries, holding companies would report for each of their insured depository institutions (a) the outstanding amount of such transactions as of the report date and (b) the maximum amount of such transactions during the calendar quarter ending with the report date. For purchase of, or investment in, securities issued by the financial subsidiaries of the insured depository institution by the insured depository institution, the holding company would report the outstanding amount of (a) equity securities as of the report date and (b) debt securities as of the report date. For purchase of, or investment in, securities issued by the financial subsidiaries of the insured depository institution by the affiliates of the insured depository institution, the financial holding company would report the outstanding amount of (a) equity securities as of the report date and (b) debt securities as of the report date. For loans and other extensions of credit by affiliates of the insured depository institution to the financial subsidiaries of the insured depository institution, the holding company would report (a) the outstanding amount of such transactions as of the report date and (b) the maximum amount of such transactions during the calendar quarter ending with the report date.

In order to monitor the amount of covered transactions that an insured depository institution has with financial subsidiaries, the Federal Reserve believes that it is necessary to distinguish those covered transactions from covered transactions the insured depository institution has with other affiliates of the holding company. The additional items on investments in and extensions of credit to financial subsidiaries will provide the information needed to determine whether the insured depository institution is evading the limits on transactions with their financial subsidiaries.

The comment period ended on November 22, 1999, and the Federal Reserve received public comments from twelve bank holding companies on the initially proposed revisions to the FR Y-8. Respondents suggested the following four alternatives for reducing burden: Collect the proposed items on the commercial bank or bank holding company quarterly financial statements or through the examination process, eliminate the reporting of the maximum aggregate amounts outstanding during the quarter, exempt institutions from reporting based upon an asset size, and exempt institutions with no affiliates or covered transactions from reporting.

In response to public comments received in 1999 on the initially proposed revisions, the Federal Reserve also proposes to add a declaration page and two check boxes to the reporting form to reduce reporting burden. The proposed declaration page and check boxes will alleviate reporting burden by exempting certain insured depository institutions from completing all of the proposed report items.

Section 23A of the Federal Reserve Act is one of the most important statutes protecting the federal safety net by limiting exposures of the insured depository institutions to affiliates. GLBA has elevated the importance of Section 23A and the need to collect information to monitor bank exposures to affiliates. The Federal Reserve strongly believes that a separate report collected on an individual insured depository institution basis for all insured depository institutions that are owned by the bank holding company is necessary to monitor compliance with section 23A. The information requested at the end of each reporting period as well as the maximum amount during the period should be available and not significantly burdensome to report because insured depository institutions already should, on an ongoing basis, be continuously monitoring their section 23A covered transaction exposures to ensure compliance with the statute.

The proposed revised report would become effective with the September 30, 2000, reporting date.

3. Report title: Daily Advance Report of Deposits.

Agency form number: FR 2000.

OMB control number: 7100-0087.

Frequency: Weekly.

Reporters: Depository institutions.

Annual reporting hours: 24,960 hours.

Estimated average hours per response: 36 minutes.

Number of respondents: 160. Small businesses are affected.

General description of report: This information collection is mandatory (12 U.S.C. 248(a) and 461) and is given confidential treatment (5 U.S.C. 552(b)(4)).

Abstract: This advance report is commonly referred to as the Markstat D. The Markstat D report collects selected deposit and vault cash data for the most recent reporting week from a sample of large commercial banks and thrifts before such data become available for the universe of all FR 2900 weekly reporters. At present, ten data items (a subset of those on the FR 2900) are collected on the report. The advance report is used in the construction of preliminary estimates of the monetary aggregates for the week just ending.

Current actions: The Federal Reserve proposes dropping three items from the FR 2000 and reducing the authorized panel size from 186 to 160 institutions. The elimination of the three reporting items and the reduction of the authorized panel size would reduce reporting burden by 15,662 hours.

Proposal To Approve Under OMB Delegated Authority the Extension for Three Years, Without Revision, of the Following Reports

1. Report titles: Quarterly Report of Interest Rates on Selected Direct Consumer Installment Loans; Quarterly Report of Credit Card Plans.

Agency form numbers: FR 2835; FR 2835a.

OMB control number: 7100-0085.

Frequency: Quarterly.

Reporters: Commercial banks.

Annual reporting hours: FR 2835: 90 hours; FR 2835a: 200 hours.

Estimated average hours per response: FR 2835: 9 minutes; FR 2835a: 30 minutes.

Number of respondents: FR 2835: 150; FR 2835a: 100. Small businesses are not affected.

General description of report: These information collections are voluntary (12 U.S.C. 248(a)(2)). The FR 2835a individual respondent data are given confidential treatment (5 U.S.C. 552 (b)(4)), the FR 2835 data however, is not given confidential treatment.

Abstract: The FR 2835 collects the most common interest rate charged at a sample of 150 commercial banks on two types of consumer loans made in a given week each quarter: new auto loans and other loans for consumer goods and personal expenditures. The data are reported for the calendar week beginning on the first Monday of each survey month (February, May, August, and November).

The FR 2835a collects information on two measures of credit card interest rates from a sample of 100 commercial banks (authorized panel size), selected to include banks with $1 billion or more in credit card receivables, and a representative group of smaller issuers. The data are representative of interest rates paid by consumers on bank credit cards because the panel includes virtually all large issuers and an appropriate sample of other issuers.

2. Report title: Report of Changes in Foreign Investments (Made Pursuant to Regulation K).

Agency form number: FR 2064.

OMB control number: 7100-0109.

Frequency: Event generated.

Reporters: Member banks, Edge and agreement corporations, and bank holding companies.

Annual reporting hours: 750 hours.

Estimated average hours per response: 30 minutes.

Number of respondents: 50. Small businesses are not affected.

General description of report: This information collection is mandatory (12 U.S.C. 602, 625 and 1844) and is given confidential treatment (5 U.S.C. 552(b) (4)).

Abstract: Member banks, Edge and agreement corporations, and bank holding companies are required to file the FR 2064 to record changes in their international investments. The FR 2064 report is event generated and is filed no later than the last day of the month following the month in which the change occurred. The Federal Reserve uses the information to monitor investments in the international operations of U.S. banking organizations and to fulfill its supervisory responsibility under Regulation K.

3. Report title: Report of Transaction Accounts, Other Deposits, and Vault Cash; Report of Certain Eurocurrency Transactions.

Agency form number: FR 2900; FR 2950/2951.

OMB control number: 7100-0087.

Frequency: Weekly, quarterly.

Reporters: Depository institutions.

Annual reporting hours: 984,138 hours.

Estimated average hours per response: FR 2900: 3.50; FR 2950/2951: 1.00.

Number of respondents: FR 2900: 4,813 weekly, and 5,880 quarterly; FR 2950/2951: 497 weekly, and 2 quarterly. Small businesses are affected.

General description of report: This information collection is mandatory (12 U.S.C. 248(a), 461, 603, and 615, and 3105(b)(2)) and is given confidential treatment (5 U.S.C. 552(b)(4)).

Abstract: The FR 2900 report collects information on deposits and related items from depository institutions that have transaction accounts or nonpersonal time deposits and that are not fully exempt from reserve requirements (“nonexempt institutions”). The FR 2950/2951 collects information on Eurocurrency transactions from depository institutions that obtain funds from foreign (non-U.S.) sources or that maintain foreign branches. The Federal Reserve proposes to raise the deposit cutoff used to determine weekly versus quarterly FR 2900 reporting (the “nonexempt cutoff”) above its indexed level of $84.5 million to $95 million. These mandatory reports are used by the Federal Reserve for administering Regulation D (Reserve Requirements of Depository Institutions) and for constructing, analyzing, and controlling the monetary and reserve aggregates.

4. Report title: Annual Report of Total Deposits and Reservable Liabilities.

Agency form number: FR 2910a.

OMB control number: 7100-0175.

Frequency: Annual.

Reporters: Depository institutions.

Annual reporting hours: 2,734 hours.

Estimated average hours per response: 30 minutes.

Number of respondents: 5,468. Small businesses are affected.

General description of report: This information collection is mandatory (12 U.S.C. 248(a) and 461) and is given confidential treatment (5 U.S.C. 552(b)(4)).

Abstract: This report collects information from depository institutions (other than U.S. branches and agencies of foreign banks and Edge and agreement corporations) that are fully exempt from reserve requirements under the Garn-St Germaine Depository Institutions Act of 1982. This mandatory report is used by the Federal Reserve for administering Regulation D (Reserve Requirements of Depository Institutions) and for constructing, analyzing, and controlling the monetary and reserve aggregates.

5. Report title: Allocation of Low Reserve Tranche and Reservable Liabilities Exemption.

Agency form number: FR 2930/2930a.

OMB control number: 7100-0088.

Frequency: Annually, and on occasion.

Reporters: Depository institutions.

Annual reporting hours: 64 hours.

Estimated average hours per response: 15 minutes.

Number of respondents: 255. Small businesses are affected.

General description of report: This information collection is mandatory: FR 2930 (12 U.S.C. 248(a), 461, 603, and 615) and FR 2930a (12 U.S.C. 248(a) and 461). It is also given confidential treatment (5 U.S.C. 552(b)(4)).

Abstract: The FR 2930 and the FR 2930a provide information on the allocation of the low reserve tranche and reservable liabilities exemption for depository institutions having offices (or groups of offices) that submit separate FR 2900 deposits reports. The data collected on these reports are needed for the calculation of required reserves.

6. Report title: Report of Foreign (Non-U.S.) Currency Deposits.

Agency form number: FR 2915.

OMB control number: 7100-0237.

Frequency: Quarterly.

Reporters: Depository institutions.

Annual reporting hours: 366 hours.

Estimated average hours per response: 30 minutes.

Number of respondents: 183. Small businesses are affected.

General description of report: This information collection is mandatory (12 U.S.C. 248(a)(2), and 3105(b)(2)) and is given confidential treatment (5 U.S.C. 552(b)(4)).

Abstract: The FR 2915 collects weekly averages of the amounts outstanding for foreign (non-U.S.) currency deposits held at U.S. offices of depository institutions, converted to U.S. dollars and included on the FR 2900 (OMB No. 7100-0087), the principal deposits report that is used for the calculation of required reserves and for the construction of the monetary aggregates. Foreign currency deposits are subject to reserve requirements and, therefore, are included in the FR 2900. However, foreign currency deposits are not included in the monetary aggregates. The FR 2915 data are used to back foreign currency deposits out of the FR 2900 data for construction and interpretation of the monetary aggregates. The FR 2915 data are also used to monitor the volume of foreign currency deposits.

Proposal To Approve Under OMB Delegated Authority the Discontinuation of the Following Reports

1. Report title: Quarterly Gasoline Company Report.

Agency form number: FR 2580.

OMB control number: 7100-0009.

Frequency: Quarterly.

Reporters: Gasoline companies.

Annual reporting hours: 4 hours.

Estimated average hours per response: 9 minutes.

Number of respondents: 7. Small businesses are not affected.

Abstract: The FR 2580 collects outstanding balances on retail credit card accounts at gasoline companies. The number of FR 2580 reporters has declined over time as the industry structure has changed. Initially, the data were collected from the universe of approximately thirty gasoline companies; subsequently, some smaller companies withdrew from the sample or were merged into other companies. In recent years some major companies have entered into “co-branding” arrangements with banks and have significantly reduced, or eliminated, their own credit card portfolios. The Federal Reserve recommends discontinuing the FR 2580 primarily because the number of respondents has dwindled. The decrease in reporting is due in part to the purchase of some of the gasoline companies' receivables by depository institutions in recent years. Because of the difficulty in maintaining a meaningful sample and because of the small fraction of consumer credit that these receivables represent, the Federal Reserve does not believe it is useful to continue the report.

2. Report title: Quarterly Report of Selected Deposits, Vault Cash, and Reserve Liabilities.

Agency form number: FR 2910q.

OMB control number: 7100-0175.

Frequency: Quarterly.

Reporters: Depository institutions.

Annual reporting hours: 3,936 hours.

Estimated average hours per response: 2 hours.

Number of respondents: 492. Small businesses are affected.

General description of report: This information collection is mandatory (12 U.S.C. 248(a) and 461) and is given confidential treatment (5 U.S.C. 552(b)(4)).

Abstract: This report collects information from depository institutions (other than U.S. branches and agencies of foreign banks and Edge and agreement corporations) that are fully exempt from reserve requirements under the Garn-St Germaine Depository Institutions Act of 1982. This report is used by the Federal Reserve for administering Regulation D (Reserve Requirements of Depository Institutions) and for constructing, analyzing, and controlling the monetary and reserve aggregates. The Federal Reserve proposes eliminating the exempt deposit cutoff and discontinuing this report associated with that cutoff. The Federal Reserve believes that, for exempt institutions, the quarterly reports of condition are adequate for quarterly benchmarking of the monetary aggregates. The Federal Reserve also believes that by shifting the current FR 2910q reporters to the annual, two-item FR 2910a, the Board will be able to adequately monitor compliance with Regulation D. The shift in reporting frequency of the almost 500 FR 2910q respondents to the FR 2910a would reduce reporting burden by 3,690 hours.

Board of Governors of the Federal Reserve System, May 15, 2000.
Jennifer J. Johnson,
Secretary of the Board.

[FR Doc. 00-12589 Filed 5-18-00; 8:45 am]

BILLING CODE 6210-01-P